DEPARTMENT OF DEFENSE

Office of the Secretary

Membership of the Office of the Secretary of Defense Performance Review Board

AGENCY: Department of Defense.

ACTION: Notice.

SUMMARY: This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Ballistic Missile Defense Organization, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: July 1, 2002.

FOR FURTHER INFORMATION CONTACT: Sandra Burrell, Executive and Political Personnel Division, Directorate for Personnel and Security, Washington Headquarters Services, Office of the Secretary of Defense, Department of Defense, The Pentagon, (703) 693-8347.

SUPPLEMENTARY INFORMATION: In accordance with 5 U.S.C. 4314(c)(4), the following executives are appointed to the office of the Secretary of Defense PRB: specific PRB panel assignments will be made from this group. Executives listed will serve a one-year renewable term, effective July 1, 2002.

Office of the Secretary of Defense

Chairperson, Cheryl J. Roby

Joseph Angello, Bruce Bade, Howard Becker, Diana Blundell, Robert Brandewie, Lisa Bronson, Jennifer Buck, Richard Burke, Domenico Cipicchio, Sharon Cooper, Eric J. Coulter, James Dominy, James Evans, Paul Grant, Sara Groeber, Paul Haselbush, Sally Horn, Michael Ioffredo, Anna Johnson-Winegar, Paul Koffsky, Christopher Lamb, John Landon, Douglas Larsen, Ronnie Larson, William Lehr, J. William Leonard, Charles Magrum, Robert Mason, Gail McGinn, James McQuality, Patrick Meehan, Richard Millies, Delores I. Moeller, Get Moy, Margaret Myers, Robert Newberry, Patrick O'Brien, John Osterholz, Barry Pavel, Ronald Richards, Richard Ritter, Vincent P. Roske, Jr., Robert Schmitt, Mark Schneider, Robert Snyder, Caral Spangler, Jean Storck, Janet Thompson, Laura Voelker, Alfred Volkman, Christoper Wright, Michael Yoemans.

Dated: September 11, 2002.
Patricia L. Toppings,
Alternate OSD Federal Register Liaison Officer, Department of Defense.

[FR Doc. 02-23647 Filed 9-17-02; 8:45 am]

BILLING CODE 5001-08-M